DEPARTMENT OF COMMERCE

International Trade Administration

[A-570-040]

Truck and Bus Tires From the People's Republic of China: Final Results of Antidumping Duty Changed Circumstances Review

AGENCY: Enforcement and Compliance, International Trade Administration, Department of Commerce.

SUMMARY: On December 13, 2019, the Department of Commerce (Commerce) published a notice of initiation and preliminary results of a changed circumstances review (CCR) of the antidumping duty order on truck and bus tires from the People's Republic of China (China). For these final results, Commerce continues to find that Sailun Group Co., Ltd. (Sailun Group) is the successor-in-interest to Sailun Jinyu Group Co., Ltd. (Sailun Jinyu), and that Sailun (Shenyang) Tire Co., Ltd. (Sailun Shenyang) is the successor-in-interest to Shenyang Peace Radial Tyre Manufacturing Co., Ltd. (Shenyang Peace).

DATES: Applicable January 13, 2020.

FOR FURTHER INFORMATION CONTACT: Lochard Philozin, AD/CVD Operations, Office I, Enforcement and Compliance, International Trade Administration, U.S. Department of Commerce, 1401 Constitution Avenue NW, Washington, DC 20230; telephone: (202) 482-4260.

SUPPLEMENTARY INFORMATION:

Background

On December 13, 2019, Commerce published a notice of initiation and preliminary results of a CCR of the antidumping duty order on truck and bus tires from China, in which we found that Sailun Jinyu changed its name to Sailun Group, effective October 22, 2018, and Shenyang Peace changed its name to Sailun Shenyang, effective December 3, 2018.¹ On October 25, 2019, Sailun Group requested that Commerce initiate an expedited CCR and determine Sailun Group is the successor-in-interest to Sailun Jinyu, and that Sailun Shenyang is the successor-in-interest to Shenyang Peace.²

¹ See Truck and Bus Tires from the People's Republic of China: Initiation and Preliminary Results of Antidumping Duty Changed Circumstances Review, 84 FR 68118 (December 13, 2019) (Initiation and Preliminary Results).

² See Sailun Group's Letter, “Sailun Request for a Changed Circumstances Review in Truck and Bus Tires From the People's Republic of China, Case No. A-570-040,” dated October 25, 2019.

Commerce preliminarily determined that Sailun Group is the successor-in-interest to Sailun Jinyu, and that Sailun Shenyang is the successor-in-interest to Shenyang Peace for purposes of determining antidumping duty liability.³ In the Initiation and Preliminary Results, Commerce provided all interested parties with an opportunity to comment and request a public hearing regarding our preliminary results. On December 27, 2019, Sailun Group informed Commerce that it agrees with the preliminary results.⁴ Commerce received no additional comments or requests for a public hearing.

³ See Initiation and Preliminary Results.

⁴ See Sailun Group's Letter, “Sailun Letter in Lieu of Brief: Changed Circumstances Review in Truck and Bus Tires From the People's Republic of China, Case No. A-570-040,” dated December 27, 2019.

Scope of the Order

The scope of the order covers truck and bus tires. Truck and bus tires are new pneumatic tires, of rubber, with a truck or bus size designation. Truck and bus tires covered by this order may be tube-type, tubeless, radial, or non-radial.

Subject tires have, at the time of importation, the symbol “DOT” on the sidewall, certifying that the tire conforms to applicable motor vehicle safety standards. Subject tires may also have one of the following suffixes in their tire size designation, which also appear on the sidewall of the tire:

TR—Identifies tires for service on trucks or buses to differentiate them from similarly sized passenger car and light truck tires; and

HC—Identifies a 17.5 inch rim diameter code for use on low platform trailers.

All tires with a “TR” or “HC” suffix in their size designations are covered by this order regardless of their intended use.

In addition, all tires that lack one of the above suffix markings are included in the scope, regardless of their intended use, as long as the tire is of a size that is among the numerical size designations listed in the “Truck-Bus” section of the Tire and Rim Association Year Book, as updated annually, unless the tire falls within one of the specific exclusions set out below.

Truck and bus tires, whether or not mounted on wheels or rims, are included in the scope. However, if a subject tire is imported mounted on a wheel or rim, only the tire is covered by the scope. Subject merchandise includes truck and bus tires produced in the subject country whether mounted on wheels or rims in the subject country or in a third country. Truck and bus tires are covered whether or not they are accompanied by other parts, e.g., a wheel, rim, axle parts, bolts, nuts, etc. Truck and bus tires that enter attached to a vehicle are not covered by the scope.

Specifically excluded from the scope of this order are the following types of tires: (1) Pneumatic tires, of rubber, that are not new, including recycled and retreaded tires; (2) non-pneumatic tires, such as solid rubber tires; and (3) tires that exhibit each of the following physical characteristics: (a) The designation “MH” is molded into the tire's sidewall as part of the size designation; (b) the tire incorporates a warning, prominently molded on the sidewall, that the tire is for “Mobile Home Use Only;” and (c) the tire is of bias construction as evidenced by the fact that the construction code included in the size designation molded into the tire's sidewall is not the letter “R.”

The subject merchandise is currently classifiable under Harmonized Tariff Schedule of the United States (HTSUS) subheadings: 4011.20.1015 and 4011.20.5020. Tires meeting the scope description may also enter under the following HTSUS subheadings: 4011.69.0020, 4011.69.0090, 4011.70.00, 4011.90.80, 4011.99.4520, 4011.99.4590, 4011.99.8520, 4011.99.8590, 8708.70.4530, 8708.70.6030, 8708.70.6060, and 8716.90.5059.

While HTSUS subheadings are provided for convenience and for customs purposes, the written description of the subject merchandise is dispositive.

Final Results of Changed Circumstances Review

For the reasons stated in the Initiation and Preliminary Results, and because we received no comments from interested parties to the contrary, Commerce continues to find that Sailun Group is the successor-in-interest to Sailun Jinyu, and that Sailun Shenyang is the successor-in-interest to Shenyang Peace.⁵ As a result of this determination, Commerce finds that subject merchandise produced and exported by Sailun Group to the United States should receive the same cash deposit rate as subject merchandise produced and exported by Sailun Jinyu to the United States; and subject merchandise produced by Sailun Shenyang and exported by Sailun Group to the United States should receive the same cash deposit rate as subject merchandise produced by Shenyang Peace and exported by Sailun Jinyu to the United States. Accordingly, Commerce will instruct U.S. Customs and Border Protection to suspend liquidation of all shipments of subject merchandise for these two successor-in-interest producer/exporter combinations at their predecessor-in-interest producer/exporter combinations' cash deposit rate of 9.00 percent.⁶ This cash deposit requirement will be effective upon the publication date of our final results for this CCR and shall remain in effect until further notice.

⁵ Initiation and Preliminary Results, 84 FR 68118.

⁶ See Truck and Bus Tires from the People's Republic of China: Antidumping Duty Order, 84 FR 4436 (February 15, 2019).

Notification to Interested Parties

This notice serves as a final reminder to parties subject to administrative protective order (APO) of their responsibility concerning the disposition of proprietary information disclosed under APO in accordance with 19 CFR 351.305(a)(3). Timely written notification of the return/destruction of APO materials or conversion to judicial protective order is hereby requested. Failure to comply with the regulations and terms of an APO is a sanctionable violation.

This notice of final results is in accordance with sections 751(b)(1) and 777(i) of the Tariff Act of 1930, as amended, and 19 CFR 351.216, 19 CFR 351.221(b)(5), and 19 CFR 351.221(c)(3).

Dated: January 7, 2020.
Jeffrey I. Kessler,
Assistant Secretary for Enforcement and Compliance.

[FR Doc. 2020-00301 Filed 1-10-20; 8:45 am]

BILLING CODE 3510-DS-P